DEPARTMENT OF COMMERCE

National Oceanic and Atmospheric Administration

Solicitation for Members of the NOAA Science Advisory Board (SAB) Gulf Coast Ecosystem Restoration Science Program Advisory Working Group (RSPAWG)

AGENCY: National Oceanic and Atmospheric Administration (NOAA), Office of Oceanic and Atmospheric Research.

ACTION: Notice.

Docket Number: 130823747-3747-01.

RIN: 0648-XC834.

SUMMARY: The National Oceanic and Atmospheric Administration is publishing this notice to solicit nominations for the NOAA Science Advisory Board Gulf Coast Ecosystem Restoration Science Program Advisory Working Group (RSPAWG). The RSPAWG is being formed to provide independent guidance and review of the RESTORE Act Science Program along with general programmatic advice and recommendations. The RSPAWG will also provide a mechanism for formal coordination between the multiple organizations conducting RESTORE-related science within the Gulf of Mexico. Members appointed to the RSPAWG will serve for three-year terms.

DATES: Nominations must be received by October 9, 2013.

ADDRESSES: Nominations should be submitted electronically to noaa.rspawg.nominees@noaa.gov.

The Terms of Reference for the RSPAWG is posted at: http://www.sab.noaa.gov/Working_Groups/standing/docs/2013/RSPAWGTermsOfReference_Final_SABapprovedJul2013.pdf.htm.

FOR FURTHER INFORMATION CONTACT: Dr. Cynthia Decker, Executive Director, Science Advisory Board, NOAA, Rm. 11230, 1315 East-West Highway, Silver Spring, Maryland 20910. Phone: 301-734-1156, Fax: 301-713-1459, Email: Cynthia.Decker@noaa.gov.

SUPPLEMENTARY INFORMATION:

Background

The Under Secretary of Commerce for Oceans and Atmosphere has requested the NOAA Science Advisory Board (SAB) to provide it with timely and expert advice and oversight of the Gulf Coast Ecosystem Restoration Science, Observation, Monitoring and Technology Program, commonly known as the NOAA RESTORE Act Science Program. The SAB is chartered under the Federal Advisory Committee Act and is the only Federal Advisory Committee with the responsibility to advise the Under Secretary on long- and short-range strategies for research, education, and application of science to resource management, and environmental assessment and prediction.

The SAB is forming an external panel that will be known as the Gulf Coast Ecosystem Restoration Science Program Advisory Working Group (RSPAWG). The RSPAWG shall provide independent guidance and review of the RESTORE Act Science Program along with general programmatic advice and recommendations. The RSPAWG will also provide a mechanism for formal coordination between the multiple organizations conducting RESTORE-related science within the Gulf of Mexico. RSPAWG will provide its findings and results to the Science Advisory Board, which will deliberate on the input before forwarding it to NOAA.

The RSPAWG will include approximately twelve Subject Matter Experts from academia, government, industry, and other ocean-related institutions as well as representatives from specific Gulf of Mexico organizations named in the RESTORE Act (i.e., the Gulf States Marine Fisheries Commission, Gulf of Mexico Fishery Management Council, and RESTORE Centers of Excellence in Florida, Alabama, Mississippi, Louisiana, and Texas).

Solicitation of Nominations

This notice solicits nominations to the RSPAWG. NOAA is seeking twelve Subject Matter Experts that have national and international reputations and degrees or professional qualifications in: Physical, chemical, or biological oceanography; economics or social sciences; wetlands ecology; fishery, wildlife, and marine mammal ecology; ecosystem modeling; toxicology; observing and monitoring systems; and ecosystem management. Nominees should be familiar with NOAA's organization and Strategic Plan and have scientific credentials and/or relevant experience that will enable them to provide expert advice concerning the RESTORE Act Science Program's roles within the context of NOAA's ocean missions and policies. They should be also familiar with the organization and management of complex, interdisciplinary science programs.

Members will be appointed for three-year terms, renewable once, and serve at the discretion of the Secretary. Vacancy appointments shall be for the remainder of the unexpired term of the vacancy, and shall be renewable twice if the unexpired term is less than one year.

Anyone is eligible to nominate and self-nominations will be accepted. Nominations should provide: (1) The nominee's full name, title, institutional affiliation, and contact information; (2) the nominee's area(s) of expertise; (3) a short description of his/her qualifications relative to the kinds of advice being solicited, and (4) a resume or CV not to exceed four (4) pages in length.

The intent is to select from the nominees; however, NOAA retains the prerogative to nominate people to the working group that were not nominated through the process outlined in this FRN if it deems it is necessary to achieve the desired balance. Once selected, the SAB will post the working group members' names at http://www.sab.noaa.gov/Working_Groups/standing/index.html.

Dated: September 3, 2013.
Jason Donaldson,
Chief Financial Officer/Chief Administrative Officer, Office of Oceanic and Atmospheric Research, National Oceanic and Atmospheric Administration, Atmospheric Administration.

[FR Doc. 2013-21759 Filed 9-6-13; 8:45 am]

BILLING CODE 3510-KD-P